SOCIAL SECURITY ADMINISTRATION

[Docket No. SSA-2017-0058]

Notice of Senior Executive Service Performance Review Board Membership

AGENCY: Social Security Administration.

ACTION: Notice of Senior Executive Service Performance Review Board Membership.

Title 5, U.S. Code, 4314(c)(4), requires that the appointment of Performance Review Board members be published in the Federal Register before service on said Board begins.

The following persons will serve on the Performance Review Board which oversees the evaluation of performance appraisals of Senior Executive Service members of the Social Security Administration:

Michael Kramer

Bonnie Doyle *

Joanne Gasparini

Erik Hansen *

John Lee

Joseph Lytle *

Natalie Lu

Dan Parry *

Patrice Stewart

* New Member

Marianna LaCanfora,
Deputy Commissioner for Human Resources.

[FR Doc. 2017-22961 Filed 10-23-17; 8:45 am]

BILLING CODE 4191-02-P